FEDERAL ELECTION COMMISSION

11 CFR Parts 100, 106 and 300

[Notice 2005-19]

State, District, and Local Party Committee Payment of Certain Salaries and Wages; Definition of Federal Election Activity

AGENCY: Federal Election Commission.

ACTION: Notice of public hearings.

SUMMARY: The Federal Election Commission is announcing public hearings on the following rulemakings: The proposed rules regarding payments by State, district or local party committees for salaries and wages of employees who spend 25 percent or less of their compensated time in a month on Federal election activity and activity in connection with Federal elections; and proposed rules defining Federal election activity.

DATES: The hearings will be held on Thursday, August 4, 2005 and will begin at 10 a.m.

ADDRESSES: Commission hearings are held in the Commission's ninth floor meeting room, 999 E Street, NW., Washington, DC.

FOR FURTHER INFORMATION CONTACT: Ms. Mai T. Dinh, Assistant General Counsel, 999 E Street, NW., Washington, DC 20463, (202) 694-1650 or (800) 424-9530.

SUPPLEMENTARY INFORMATION:

Rulemaking on State, District, and Local Party Committee Payment of Certain Salaries and Wages

On May 4, 2005, the Commission published a Notice of Proposed Rulemaking (“NPRM”) proposing revisions to rules that cover what mixture of Federal and non-Federal funds can be used by State, District and local party committees to pay salaries and wages for persons who spend 25 percent or less of their compensated time in a month on Federal election activity or on activity in connection with a Federal election. The comment period for this NPRM ended on June 3, 2005. The Commission received five comments in response to this NPRM. Six commenters who submitted three of the comments requested to testify at a public hearing if one is held.

After considering these requests and the other comments received to date in response to this NPRM, the Commission believes a public hearing would be helpful in considering the issues raised in the rulemaking. The hearing will be held on August 4, 2005.

Rulemaking on Definition of Federal Election Activity

On May 4, 2005, the Commission published an NPRM proposing to revise the definitions of “Federal election activity,” “get-out-the-vote activity,” and “voter identification.” The comment period for this NPRM ended on June 3, 2005. The Commission received eight comments in response to this NPRM. Seven commenters who submitted four of the comments requested to testify at a public hearing if one is held.

After considering these requests and the other comments received to date in response to this NPRM, the Commission believes a public hearing would be helpful in considering the issues raised in the rulemaking. The hearing will be held on August 4, 2005.

Dated: July 19, 2005.
Scott E. Thomas,
Chairman, Federal Election Commission.

[FR Doc. 05-14508 Filed 7-21-05; 8:45 am]

BILLING CODE 6715-01-P